DEPARTMENT OF COMMERCE

National Oceanic and Atmospheric Administration

RIN 0648-XF828

Fisheries of the South Atlantic; South Atlantic Fishery Management Council; Public Meetings

AGENCY: National Marine Fisheries Service (NMFS), National Oceanic and Atmospheric Administration (NOAA), Commerce.

ACTION: Announcement of rescheduled meeting and an additional meeting of the South Atlantic Fishery Management Council's Citizen Science Advisory Panel Finance and Infrastructure Action Team.

SUMMARY: The South Atlantic Fishery Management Council (Council) will hold a meeting of its Citizen Science Advisory Panel Finance and Infrastructure Action Team via webinar. The meeting via webinar was originally scheduled for November 9, 2017 but has been rescheduled as a result of schedule changes (See SUPPLEMENTARY INFORMATION). In December 2017, the Council will also hold another meeting of the Citizen Science Advisory Panel Finance and Infrastructure Action Team via webinar.

DATES: The meeting via webinar has been rescheduled for November 29, 2017 at 1 p.m. The additional Action Team webinar for December 2017 is scheduled for December 13, 2017 at 1 p.m. Both meetings are scheduled to last approximately 90 minutes each. Additional Action Team meetings and plenary webinar dates and times will publish in a subsequent issue in the Federal Register.

ADDRESSES:

Meeting address: The meetings will be held via webinar and are open to members of the public. Webinar registration is required and registration links will be posted to the Citizen Science program page of the Council's Web site at www.safmc.net.

Council address: South Atlantic Fishery Management Council, 4055 Faber Place Drive, Suite 201, N. Charleston, SC 29405.

FOR FURTHER INFORMATION CONTACT: Amber Von Harten, Citizen Science Program Manager, SAFMC; phone (843) 302-8433 or toll free (866) SAFMC-10; fax: (843) 769-4520; email: amber.vonharten@safmc.net.

SUPPLEMENTARY INFORMATION: Due to schedule changes, the scheduled meeting of the Council's Citizen Science Finance and Infrastructure Action Team originally scheduled for Thursday, November 9, 2017 at 2 p.m. is rescheduled for Wednesday, November 29, 2017 at 1 p.m. The original notice for that meeting published in the Federal Register on October 16, 2017 (82 FR 48063). The Council will also hold another meeting of the Council's Citizen Science Finance and Infrastructure Action Team on Wednesday, December 13, 2017 at 1 p.m.

The Council created a Citizen Science Advisory Panel Pool in June 2017. The Council appointed members of the Citizen Science Advisory Panel Pool to five Action Teams in the areas of Volunteers, Data Management, Projects/Topics Management, Finance and Infrastructure, and Communication/Outreach/Education to develop program policies and operations for the Council's Citizen Science Program.

The Finance and Infrastructure Action Team will meet to continue work on developing recommendations on program policies and operations to be reviewed by the Council's Citizen Science Committee. Public comment will be accepted at the beginning of the meeting.

Items to be addressed during these meetings:

1. Discuss work on tasks in the Terms of Reference

2. Other Business

Special Accommodations

These meetings are physically accessible to people with disabilities. Requests for auxiliary aids should be directed to the council office (see ADDRESSES) 3 days prior to the meeting.

Note: The times and sequence specified in this agenda are subject to change.

Authority: 16 U.S.C. 1801 et seq.

Dated: November 7, 2017.
Tracey L. Thompson,
Acting Deputy Director, Office of Sustainable Fisheries, National Marine Fisheries Service.

[FR Doc. 2017-24507 Filed 11-9-17; 8:45 am]

BILLING CODE 3510-22-P